DEPARTMENT OF THE INTERIOR

Fish and Wildlife Service

Receipt of Applications for Permit

AGENCY: Fish and Wildlife Service, Interior.

ACTION: Notice of receipt of applications for permit.

SUMMARY: The public is invited to comment on the following applications to conduct certain activities with endangered species and/or marine mammals.

DATES: Written data, comments or requests must be received by February 7, 2005.

ADDRESSES: Documents and other information submitted with these applications are available for review, subject to the requirements of the Privacy Act and Freedom of Information Act, by any party who submits a written request for a copy of such documents within 30 days of the date of publication of this notice to: U.S. Fish and Wildlife Service, Division of Management Authority, 4401 North Fairfax Drive, Room 700, Arlington, Virginia 22203; fax (703) 358-2281.

FOR FURTHER INFORMATION CONTACT: Division of Management Authority, telephone (703) 358-2104.

SUPPLEMENTARY INFORMATION:

Endangered Species

The public is invited to comment on the following applications for a permit to conduct certain activities with endangered species. This notice is provided pursuant to section 10(c) of the Endangered Species Act of 1973, as amended (16 U.S.C. 1531, et seq.). Written data, comments, or requests for copies of these complete applications should be submitted to the Director (address above).

Applicant: The Field Museum of Natural History, Chicago, IL, PRT-096771.

The applicant requests a permit to import biological samples taken from cheetah (Acinonyx jubatus) in the wild by the Kenya Wildlife Service for the purpose of scientific research for genetic and immunological analysis. This notification covers activities to be conducted by the applicant over a five-year period.

Applicant: The Los Angeles Zoo & Botanical Garden, Los Angeles, CA, PRT-097156.

The applicant requests a permit to import one male and one female brush-tailed bettong (Bettongia penincillata) from Zoo Duisburg AG, Germany for the purpose of enhancement of the survival of the species.

Applicant: David B. Landers, Pacific Palisades, CA, PRT-096680.

The applicant requests a permit to import the sport-hunted trophy of one male bontebok (Damaliscus pygargus pygargus) culled from a captive herd maintained under the management program of the Republic of South Africa, for the purpose of enhancement of the survival of the species.

Applicant: Michael E. Williams, Choreau, MT, PRT-088718.

The applicant requests a permit to import the sport-hunted trophy of one male bontebok (Damaliscus pygargus pygargus) culled from a captive herd maintained under the management program of the Republic of South Africa, for the purpose of enhancement of the survival of the species.

Applicant: Gary M. Story, Edmond, OK, PRT-096542.

The applicant requests a permit to import the sport-hunted trophy of two male bontebok (Damaliscus pygargus pygargus) culled from a captive herd maintained under the management program of the Republic of South Africa, for the purpose of enhancement of the survival of the species.

Applicant: Gracia P. Gonzalez Porter, Takoma Park, MD, PRT-095827.

The applicant requests a permit to import tissue samples collected from wild and/or captive American river turtles (Dermatemys mawaii) for the purpose of scientific research. This notification covers activities to be conducted by the applicant over a five-year period.

Endangered Marine Mammals

The public is invited to comment on the following application for a permit to conduct certain activities with endangered marine mammals. The application was submitted to satisfy requirements of the Endangered Species Act of 1973, as amended (16 U.S.C. 1531, et seq.) and/or the Marine Mammal Protection Act of 1972, as amended (16 U.S.C. 1361, et seq.), and the regulations governing endangered species (50 CFR part 17) and/or marine mammals (50 CFR part 18). Written data, comments, or requests for copies of the complete applications or requests for a public hearing on these applications should be submitted to the Director (address above).

Anyone requesting a hearing should give specific reasons why a hearing would be appropriate. The holding of such a hearing is at the discretion of the Director.

Applicant: Smithsonian Marine Station at Fort Pierce, Fort Pierce, FL, PRT-096527.

The applicant requests a permit to acquire blood samples and whisker clippings from two captive-held Florida manatees (Trichechus manatus latirostris) for the purpose of scientific research. This notification covers activities to be conducted by the applicant over a one-year period.

Concurrent with the publication of this notice in the Federal Register, the Division of Management Authority is forwarding copies of the above applications to the Marine Mammal Commission and the Committee of Scientific Advisors for their review.

Dated: December 17, 2004.
Lisa J. Lierheimer,
Senior Permit Biologist, Branch of Permits, Division of Management Authority.

[FR Doc. 05-299 Filed 1-6-05; 8:45 am]

BILLING CODE 4310-55-P